ENVIRONMENTAL PROTECTION AGENCY

[FRL-9968-18-OP]

EPA Smart Sectors Program Launch

Correction

In Notice document 2017-20310, appearing on page 44783 in the issue of Tuesday, September 26, 2017, make the following correction:

On page 44783, in the second column, in the SUPPLEMENTARY INFORMATION section, under “General Information”, the first paragraph should read as follows:

EPA has initially identified the following sectors to work with: Aerospace; agriculture; automotive; cement and concrete; chemical manufacturing; construction; electronics and technology; forestry and paper products; iron and steel; mining; oil and gas; ports and marine; and utilities and power generation. Sectors were selected based on each sector's potential to improve the environment and public health. EPA welcomes participation from other stakeholders.

[FR Doc. C1-2017-20310 Filed 9-28-17; 8:45 am]

BILLING CODE 1301-00-D